CONSUMER PRODUCT SAFETY COMMISSION

[Docket No. CPSC-2009-0044]

Agency Information Collection Activities; Submission for OMB Review; Comment Request—Safety Standard for Cigarette Lighters

AGENCY: Consumer Product Safety Commission.

ACTION: Notice.

SUMMARY: In accordance with the requirements of the Paperwork Reduction Act (“PRA”) of 1995 (44 U.S.C. chapter 35), the Consumer Product Safety Commission (“Commission” or “CPSC”) announces that the Commission has submitted to the Office of Management and Budget (“OMB”) a request for extension of approval of a collection of information from manufacturers and importers of disposable and novelty cigarette lighters under the CPSC's regulations implementing the Safety Standard for Cigarette Lighters (16 CFR part 1210). In the Federal Register of February 22, 2016 (81 FR 8696), the CPSC published a notice to announce the agency's intention to seek extension of approval of the collection of information. The Commission received no comments. Therefore, by publication of this notice, the Commission announces that CPSC has submitted to the OMB a request for extension of approval of that collection of information, without change.

DATES: Written comments on this request for extension of approval of information collection requirements should be submitted by June 1, 2016.

ADDRESSES: Submit comments about this request by email: OIRA_submission@omb.eop.gov or fax: 202-395-6881. Comments by mail should be sent to the Office of Information and Regulatory Affairs, Attn: OMB Desk Officer for the CPSC, Office of Management and Budget, Room 10235, 725 17th Street NW., Washington, DC 20503. In addition, written comments that are sent to OMB also should be submitted electronically at http://www.regulations.gov, under Docket No. CPSC-2009-0044.

FOR FURTHER INFORMATION CONTACT: For further information contact: Robert H. Squibb, Consumer Product Safety Commission, 4330 East West Highway, Bethesda, MD 20814; (301) 504-7815, or by email to: rsquibb@cpsc.gov.

SUPPLEMENTARY INFORMATION: CPSC has submitted the following currently approved collection of information to OMB for extension:

Title: Safety Standard for Cigarette Lighters.

OMB Number: 3041-0116.

Type of Review: Renewal of collection.

Frequency of Response: On occasion.

Affected Public: Manufacturers and importers of cigarette lighters.

Estimated Number of Respondents: In 2015, 42 firms submitted information to the CPSC on 307 lighter models. There were 4 new models and 303 lighters that were comparable to previously tested models (“comparison lighters”).

Estimated Time per Response: Recordkeeping is composed of two separate components: Recordkeeping for new models and recordkeeping for comparison lighters. The time burden for recordkeeping for new models is estimated at 20 hours per model. The total time for recordkeeping of new models is estimated to be 80 hours (20 hours × 4 models). For each new model, product testing for each firm would take approximately 90 hours per model, for a total of 360 hours (90 hours × 4 models).

Firms may also submit comparison lighters to demonstrate compliance with the standard. In 2015, 303 comparison lighters were reported to the CPSC. While firms bear no testing costs for comparison lighters, the burden hours for recordkeeping has been estimated at 3 hours per model. Thus, an estimated 909 hours (303 models × 3 hours) is estimated for recordkeeping for comparison lighters.

Reporting requirements for submitting forms to CPSC are estimated at one hour per model, for a total annual reporting burden on 307 hours (307 models × 1 hour).

Total Estimated Annual Burden: The total number of responses is approximately 307 per year (4 new models + 303 comparison lighters). The number of hours estimated for testing and recordkeeping is 1,349 hours per year, including new-product tests (360 hours if done in house), new product recordkeeping (4 new models × 20 hours = 80 hours), and recordkeeping for comparison lighters (303 comparison lighters × 3 hours = 909 hours). In addition, the CPSC estimates that approximately one hour per product will be required for manufacturers to submit forms to CPSC, or 307 total hours for reporting. Accordingly the total burden hours for recordkeeping and reporting are approximately 1656 hours (1349 + 307).

General Description of Collection: In 1993, the Commission issued the Safety Standard for Cigarette Lighters (16 CFR part 1210) under the Consumer Product Safety Act (“CPSA”) (15 U.S.C. 2051 et seq.) to eliminate or reduce risks of death and burn injury from fires accidentally started by children playing with cigarette lighters. The standard requires certain test protocols, as well as recordkeeping and reporting requirements. 16 CFR part 1210, subpart B. In addition, section 14(a) of the CPSA (15 U.S.C. 2063(a)) requires manufacturers, importers, and private labelers of a consumer product subject to a consumer product safety standard to issue a certificate stating that the product complies with all applicable consumer product safety standards. Section 14(a) of the CPSA also requires that the certificate of compliance must be based on a test of each product or upon a reasonable testing program.

Dated: April 27, 2016.
Todd A. Stevenson,
Secretary, Consumer Product Safety Commission.

[FR Doc. 2016-10212 Filed 4-29-16; 8:45 am]

BILLING CODE 6355-01-P